DEPARTMENT OF THE TREASURY

Internal Revenue Service

26 CFR Part 1

[TD 9674]

RIN 1545-BM07

Guidelines for the Streamlined Process of Applying for Recognition of Section 501(c)(3) Status

Correction

In rule document 2014-15623 on pages 37630-37632 of the issue of Wednesday, July 2, 2014 make the following correction:

PART 1—INCOME TAXES

On page 37631, in the third column, in the 26th line from the bottom, “§ 1.501(c)(3)” should read “§ 1.501(c)(3)-1T”.

[FR Doc. C1-2014-15623 Filed 7-9-14; 8:45 am]

BILLING CODE 1505-01-D